DEPARTMENT OF ENERGY

Federal Energy Regulatory Commission

[Project No. 4108-019]

City of St. Cloud, Minnesota; Notice Of Intent To Prepare An Environmental Assessment

On December 15, 2022, City of St. Cloud, Minnesota filed an application to relicense the 8.64-megawatt St. Cloud Hydroelectric Project No. 4108 (project). The project is located on the Mississippi River, in the City of St. Cloud, in Stearns, Benton, and Sherburne Counties, Minnesota.

In accordance with the Commission's regulations, on May 8, 2025, Commission staff issued a notice that the project was ready for environmental analysis (REA notice). Based on the information in the record, including comments filed on the REA Notice, staff does not anticipate that licensing the project would constitute a major federal action significantly affecting the quality of the human environment. Therefore, staff intends to prepare an Environmental Assessment (EA) on the application to relicense the project.¹

¹ For tracking purposes under the National Environmental Policy Act, the unique identification number for documents relating to this environmental review is EAXX-019-20-000-1751981550.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target Date
Commission issues EA | June 7, 2026.

Any questions regarding this notice may be directed to David Graefe at 202-502-6137, david.graefe@ferc.gov.

Dated: July 15, 2025.
Debbie-Anne A. Reese,
Secretary.

[FR Doc. 2025-13536 Filed 7-17-25; 8:45 am]

BILLING CODE 6717-01-P